DEPARTMENT OF COMMERCE

National Oceanic and Atmospheric Administration

50 CFR Part 622

[Docket No. 231226-0316]

RIN 0648-BL93

Fisheries of the Caribbean, Gulf of Mexico, and South Atlantic; Snapper-Grouper Fishery of the South Atlantic Region; Amendment 49; Correction

AGENCY: National Marine Fisheries Service (NMFS), National Oceanic and Atmospheric Administration (NOAA), Commerce.

ACTION: Final rule; correcting amendment.

SUMMARY: NMFS corrects the final rule that implemented management measures described in Amendment 49 to the Fishery Management Plan for the Snapper-Grouper Fishery of the South Atlantic Region (FMP), which published in the Federal Register on September 26, 2023. For greater amberjack, that final rule revised the sector annual catch limits (ACLs), the commercial minimum size limit, the commercial seasonal trip limits, and the April spawning season closure. In addition, Amendment 49 revised the overfishing limit, acceptable biological catch, annual optimum yield, and sector allocations of the total ACL, as well as removed the recreational annual catch targets for species in the FMP. In that final rule, NMFS inadvertently neglected to include a previously contained commercial quota provision that did not change through Amendment 49, and did not include a commercial trip limit paragraph heading that did not change through Amendment 49. The purpose of this correcting amendment is to fix these errors.

DATES: This correction is effective January 3, 2024.

FOR FURTHER INFORMATION CONTACT: Mary Vara, Southeast Regional Office, NMFS, telephone: 727-824-5305, email: mary.vara@noaa.gov.

SUPPLEMENTARY INFORMATION: On September 26, 2023, NMFS published a final rule in the Federal Register (88 FR 65819) to implement revisions to greater amberjack management measures contained in Amendment 49 that included, among other actions, regulatory revisions for commercial quotas and commercial trip limits. That final rule became effective on October 26, 2023.

Corrections

In the regulatory text of the final rule for Amendment 49, NMFS inadvertently neglected to include the pre-existing greater amberjack commercial seasonal quota carryover provision at 50 CFR 622.190(a)(3)(iii) within 50 CFR 622.190(a)(3), when also revising paragraphs (a)(3)(i) and (ii) of the section. The text within 50 CFR 622.190(a)(3)(iii) states, “Any unused portion of the quota specified in paragraph (a)(3)(i) of this section will be added to the quota specified in paragraph (a)(3)(ii) of this section. Any unused portion of the quota specified in paragraph (a)(3)(ii) of this section, including any addition of quota specified in paragraph (a)(3)(i) of this section that was unused, will become void and will not be added to any subsequent quota.”

The discussions in Amendment 49, as well as the associated proposed and final rules, were clear that for greater amberjack commercial quotas, only the seasonal quota values themselves were to change, not the existing quota carryover provision, and therefore it should have also been included within the rest of the text at 50 CFR 622.190(a)(3). Thus, through this correcting amendment NMFS corrects 50 CFR 622.190 by adding the mistakenly removed paragraph (a)(3)(iii) that was effective and in the regulations prior to the implementation of Amendment 49.

Additionally, in the regulatory text of the final rule for Amendment 49, NMFS inadvertently neglected to include a paragraph heading for greater amberjack within the commercial trip limits at 50 CFR 622.191(a)(5). Amendment 49 revised the greater amberjack trip limit and when drafting the associated regulatory text for that trip limit, NMFS inadvertently did not include “Greater amberjack” as the heading for paragraph (a)(5) of the section. Thus, through this correcting amendment NMFS adds back in the heading of “Greater amberjack” at 50 CFR 622.191(a)(5) that was effective and in the regulations prior to the implementation of Amendment 49.

Classification

Pursuant to section 305(d) of the Magnuson-Stevens Act, the NMFS Assistant Administrator (AA) has determined that this final rule is consistent with Amendment 49, the FMP, the Magnuson-Stevens Act, and other applicable law.

This final rule has been determined to be not significant under Executive Order 12866.

Pursuant to 5 U.S.C. 553(b)(B), the AA finds good cause to waive prior notice and opportunity for additional public comment because it would be unnecessary and contrary to the public interest. This correcting amendment adds back into the regulations a needed commercial quota provision and a commercial trip limit paragraph heading that were inadvertently not included in the final rule implementing Amendment 49. Providing prior notice and opportunity for public comment is unnecessary and contrary to the public interest. The final rules that implemented the erroneously removed codified provisions and the greater amberjack management measures in Amendment 49 were already subject to notice and public comment. Additional opportunity for public comment would delay inclusion of the previously effective commercial quota and trip limit provisions which were inadvertently removed in the regulatory text. Further, this correction will prevent confusion about greater amberjack commercial quota provisions and add clarity to the commercial trip limit regulations.

For the same reasons, the AA also finds good cause, pursuant to 5 U.S.C. 553(d)(3), to waive the 30-day delay in effective date for this correcting amendment.

Because prior notice and opportunity for public comment are not required for this rule by 5 U.S.C. 553, or any other law, this rule is exempt from the procedures of the Regulatory Flexibility Act. Accordingly, no Regulatory Flexibility Analysis is required and none has been prepared.

This final rule contains no information collection requirements under the Paperwork Reduction Act of 1995.

List of Subjects in 50 CFR Part 622

Commercial, Fisheries, Fishing, Greater amberjack, South Atlantic.

Dated: December 28, 2023.
Samuel D. Rauch, III,
Deputy Assistant Administrator for Regulatory Programs, National Marine Fisheries Service.

Accordingly, 50 CFR part 622 is corrected by making the following correcting amendment:

PART 622—FISHERIES OF THE CARIBBEAN, GULF OF MEXICO, AND SOUTH ATLANTIC

1. The authority citation for part 622 continues to read as follows:

Authority: 16 U.S.C. 1801 et seq.

2. In § 622.190, add paragraph (a)(3)(iii) to read as follows:

§ 622.190 Quotas.

* * * * *

(a) * * *

(3) * * *

(iii) Any unused portion of the quota specified in paragraph (a)(3)(i) of this section will be added to the quota specified in paragraph (a)(3)(ii) of this section. Any unused portion of the quota specified in paragraph (a)(3)(ii) of this section, including any addition of quota specified in paragraph (a)(3)(i) of this section that was unused, will become void and will not be added to any subsequent quota.

* * * * *

3. In § 622.191, revise paragraph (a)(5) to read as follows:

§ 622.190 Commercial trip limits.

* * * * *

(a) * * *

(5) Greater amberjack. Until the applicable commercial quota specified in § 622.190(a)(3) is reached—1,200 lb (544 kg). See § 622.190(c)(1) for the limitations regarding greater amberjack after the applicable commercial quota is reached.

* * * * *

[FR Doc. 2023-28901 Filed 1-2-24; 8:45 am]

BILLING CODE 3510-22-P